DEPARTMENT OF LABOR

Proposed Information Collection Request of the ETA-9000, on Internal Fraud Activities Report; Comment Request

AGENCY: Employment and Training Administration.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the addresses section of this notice or by accessing: http://www.doleta.gov/OMBCN/OMBControlNumber.cfm.

DATES: Written comments must be submitted to the office listed in the addresses section below on or before March 17, 2008.

ADDRESSES: Send comments to Susan Hilliard, U.S. Department of Labor, Employment and Training Administration, Office of Workforce Security, 200 Constitution Avenue, NW., Frances Perkins Bldg., Room S-4519, Washington, DC 20210, telephone number (202) 693-3068 (this is not a toll-free number) or by e-mail: hilliard.susan@dol.gov.

SUPPLEMENTARY INFORMATION: I. The ETA-9000 is the only data source available on instances of internal fraud activities within the Unemployment Insurance (UI) program and the results of safeguards that have been implemented to deter and detect instances of internal fraud. The report categorizes the major areas susceptible to internal (employee) fraud and provides actual and “estimated” (predictability or cost avoidance measures) workload. The information from this report has been used and will be used to review Internal Security (IS) operations and obtain information on composite shifting patterns of nationwide activity and effectiveness in the area of internal fraud identification and prevention. The Employment and Training Administration (ETA) has used this report to assess the overall adequacy of Internal Security procedures in States' UI programs.

II. Desired Focus of Comments: Currently, the Employment and Training Administration, Office of Workforce Security is soliciting comments concerning the proposed extension of the collection for the ETA-9000 Report on Internal Fraud Activities.

Comments are requested to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions: Continued collection of the ETA-9000 data will provide for a comprehensive evaluation of the UI Internal Security program. The data are collected annually, and an analysis of the data received is formulated into a report summarizing internal fraud cases uncovered by the 53 SWAs.

Type of Review: Extension without change.

Agency: Employment and Training Administration (ETA).

Title: ETA-9000, Report on Internal Fraud Activities.

OMB Number: 1205-0187.

Agency Number: ETA-9000.

Affected Public: 53 State governments.

Total Respondents: 53.

Frequency: Annually.

Total Responses: 53 States.

Total Average Time per Response: 3 hours.

Estimated Total Burden Hours: 159 hours.

Total Burden Cost (capital/startup): $0.

Total Burden Cost (operating/maintaining): $0.

Comments submitted in response to this notice will be summarized and/or included in the request for Office of Management and Budget approval of the information collection request; they will also become a matter of public record.

Dated: January 9, 2008.
Cheryl Atkinson,
Administrator, Office of Workforce Security.

[FR Doc. E8-626 Filed 1-15-08; 8:45 am]

BILLING CODE 4510-FW-P